DEPARTMENT OF HOMELAND SECURITY

Transportation Security Administration

Intent To Request Renewal From OMB of One Current Public Collection of Information: Aircraft Operator Security

AGENCY: Transportation Security Administration, DHS.

ACTION: 60-day Notice.

SUMMARY: The Transportation Security Administration (TSA) invites public comment on one currently approved Information Collection Request (ICR), Office of Management and Budget (OMB) control number 1652-0003, abstracted below, that TSA will submit to OMB for revision in compliance with the Paperwork Reduction Act (PRA). The ICR describes the nature of the information collection and its expected burden. Aircraft operators must provide certain information to TSA and adopt and implement a TSA-approved security program. These programs require aircraft operators to maintain and update records to ensure compliance with security provisions outlined in 49 CFR part 1544.

DATES: Send your comments by January 19, 2016.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0003; Aircraft Operator Security, 49 CFR part 1544. The information collected is used to determine compliance with 49 CFR part 1544 and to ensure passenger safety by monitoring aircraft operator security procedures. For purposes of consolidating ICRs and streamlining TSA's collections, TSA is seeking to revise its OMB control number, 1652-0003, Aircraft Operator Security to include information collected under OMB control number 1652-0006, pertaining to 49 CFR part 1544. OMB control number 1652-0006, Employment Standards, involves the requirement for aircraft operators to maintain records of compliance with Part 1544 for selected flight crew and security employees. TSA implements aircraft operator security standards at 49 CFR part 1544 to require each aircraft operator to which this part applies to adopt and carry out a security program. These TSA-approved security programs establish procedures that aircraft operators must carry out to protect persons and property traveling on flights provided by the aircraft operator against acts of criminal violence, aircraft piracy, and the introduction of explosives, incendiaries, or weapons aboard an aircraft.

This information collection is mandatory for aircraft operators. As part of their security programs, affected aircraft operators are required to maintain and update, as necessary, records of compliance with the security program provisions set forth in 49 CFR part 1544, including maintaining records of compliance for selected crew and security employees. Part 1544 also requires affected aircraft operators to submit security program amendments to TSA when applicable and to make their security programs and associated records available for inspection and copying by TSA to ensure transportation security and regulatory compliance.

In addition, part 1544 requires the affected aircraft operators to submit information on aircraft operators' flight crews and other employees, passengers, and cargo. The information collection includes information regarding security program (SP) updates, amendments, and changes; criminal history records check (CHRC) applications; recordkeeping on SPs, CHRCs, training and other recordkeeping matters; watchlist matching for employees and reporting matches to TSA; watchlist matching for passengers in case of Secure Flight outages; and incident and suspicious activity reporting. Aircraft operators may provide the information electronically or manually.

Aircraft operators must ensure that certain flight crew members and employees submit to and receive a criminal history records check (CHRC). These requirements apply to flight crew members and employees with unescorted access authority to a Security Identification Display Area (SIDA) or who perform screening, checked baggage, or cargo functions. As part of the CHRC process, the individual must provide identifying information, including fingerprints. Additionally, aircraft operators must maintain these records, and records associated with compliance with Security Directives, and make them available to TSA for inspection and copying upon request.

TSA estimates that there will be approximately 801 respondents to the information requirements described above, with a total annual burden estimate of approximately 2,262,268 hours.

Dated: November 10, 2015.
Joanna Johnson,
TSA Paperwork Reduction Act Officer, Office of Information Technology.

[FR Doc. 2015-29234 Filed 11-16-15; 8:45 am]

BILLING CODE 9110-05-P